DEPARTMENT OF THE INTERIOR

Fish and Wildlife Service

50 CFR Part 17

Endangered and Threatened Wildlife and Plants; 12-Month Finding for a Petition To Revise Critical Habitat for Alabama Beach Mouse, Perdido Key Beach Mouse, and Choctawhatchee Beach Mouse

AGENCY: Fish and Wildlife Service, Interior.

ACTION: Notice of 12-month petition finding.

SUMMARY: We, the Fish and Wildlife Service (Service), announce a 12-month finding on a petition to revise critical habitat for the Alabama beach mouse (Peromyscus polionotus ammobates), Perdido Key beach mouse (P. p. trissyllepsis), and Choctawhatchee beach mouse (P. p. allophrys), pursuant to the Endangered Species Act of 1973, as amended (Act). After review of all available scientific and commercial information, we find that revision of critical habitat is warranted.

DATES: We made the finding announced in this document on September 12, 2000.

ADDRESSES: You may submit data, information, comments, or questions to the Field Supervisor, U.S. Fish and Wildlife Service, P.O. Box 1190, Daphne, Alabama 36526. The petition finding, supporting data, and comments are available for public inspection, by appointment, during normal business hours at the above address.

FOR FURTHER INFORMATION CONTACT: Mr. Larry Goldman, Field Supervisor (see ADDRESSES section), telephone 334/441-4151, extension 30.

SUPPLEMENTARY INFORMATION:

Background

Section 4(b)(3)(D)(ii) of the Act and our listing regulations (50 CFR 424.14(c)(3)) require that within 12 months after receiving a petition that is found to present substantial information indicating that the requested revision may be warranted, we shall determine how we intend to proceed with the requested revision, and promptly publish notice of such intention in the Federal Register.

On February 2, 1999, Mr. Eric Huber, EarthJustice Legal Defense Fund, submitted a petition to us, on behalf of the Sierra Club and the Biodiversity Legal Foundation, to revise the critical habitat designation for three endangered species: Alabama beach mouse (Peromyscus polionotus ammobates), Perdido Key beach mouse (P. p. trissyllepsis), and Choctawhatchee beach mouse (P. p. allophrys). We received the petition on February 8, 1999. Mr. Huber submitted additional information on April 16, 1999.

After considering the petition and other available information, we found that it contained substantial information indicating that the requested action may be warranted. We published a notice announcing our finding in the Federal Register on November 18, 1999 (64 FR 63004).

The processing of this petition conforms with our Final Listing Priority Guidance for Fiscal Year 2000, published in the Federal Register on October 22, 1999 (64 FR 57114). The highest priority under this guidance is the processing of emergency listing rules for any species determined to face a significant and imminent risk to its well being. The second priority is the processing of final determinations on proposed additions to the lists of endangered and threatened wildlife plants. The third priority is processing new proposals to add species to the lists. The processing of administrative petition findings filed under section 4 of the Act is considered the fourth priority. Critical habitat determinations (prudency and determinability decisions) and proposed or final designations of critical habitat are no longer subject to prioritization under the Listing Priority Guidance. Critical habitat determinations and designations are undertaken as conservation efforts demand and in light of resource constraints.

We have reviewed the petition, the information provided in the petition, other literature, and information available in our files. On the basis of the best scientific and commercial information available, we find that revision of critical habitat is warranted for the Alabama beach mouse, Perdido Key beach mouse, and Choctawhatchee beach mouse. Additional secondary and/or scrub dunes may be required for Alabama beach mouse habitat, and these habitats also may be required for the Perdido Key beach mouse and the Choctawhatchee beach mouse since they are ecologically equivalent. The petition contains much of the same information already present in our files and supports our conclusions reached in our previously issued Biological Opinion on the Reaffirmation of the Beach Club and Martinique on the Gulf Incidental Take Permits. Available information and data indicate that those areas that include a greater diversity of habitat, including secondary and/or scrub dunes, may be essential to the survival and recovery of all three subspecies.

Section 4(b)(3)(D)(ii) of the Act provides that with a 12-month warranted finding, we shall determine how we intend to proceed with the requested revision. The steps outlined below fulfill this requirement.

1. Habitat Assessment: Criteria for designating critical habitat are provided in our regulations at 50 CFR 424. Areas to be considered include physiological, behavioral, ecological, and evolutionary requirements that are essential to the conservation of a species and that may require special management considerations or protection. Such requirements include, but are not limited to: (1) Space for individual and population growth, and for normal behavior; (2) food, water, air, light, minerals, or other nutritional or physiological requirements; (3) cover or shelter; (4) sites for breeding, reproduction, rearing of offspring, germination, or seed dispersal; and (5) habitats that are protected from disturbance or are representative of the historic geographical and ecological distribution of a species.

When considering the designation of critical habitat, we focus on the principal biological or physical constituent elements that are essential to the species' conservation. Known primary constituent elements are listed with the critical habitat. The current constituent elements for the three subspecies include dunes and interdunal areas, and associated grasses and shrubs that provide food and cover.

Recent research and trapping data indicate that optimum beach mouse habitat comprises a matrix of beach-dune habitats that includes primary, secondary, and scrub dunes. In particular, data analyzed within the last two years indicate that dunes in the higher elevations provide essential habitat for beach mice survival and recovery. While data still support the conclusion that primary dunes support higher densities of beach mice (under non-storm conditions), it is highly unlikely that primary dunes alone could support a beach mouse population over a long period due to susceptibility to storm overwash and damage. Potential for long term survival is the best criterion for defining optimum habitat; this would be highest in areas that include a scrub dune component. Thus, these habitats should be considered critical for the survival and recovery of beach mice. Areas that contain optimum habitat must be determined individually for each subspecies.

Another component of critical habitat designation is the quantity of optimum habitat needed for recovery of each subspecies. The number of acres needed for recovery is variable due to the number of elements involved on each site. For example, the quantity and overall quality of habitat, ownership, land use, and connectivity with other beach mouse habitat changes significantly from site to site. We must determine these variables for each subspecies. Once identified, the habitats must be delineated, mapped, and described for the proposed designation process. This includes review of aerial photography, ownership maps, field ground truthing, locating landmarks or other geographical markers using survey techniques such as geographic positioning systems to locate latitude and longitude, with the final product being a usable map. Once initiated, we anticipate that completion of these actions, including publication of a proposed rule, will take approximately one year. Initiation of work in fiscal year 2001 will depend upon availability of funding and the presence of other potentially higher priority listing and critical habitat actions (including court ordered critical habitat designations).

2. Economic Analysis: Section 4(b)(2) of the Act requires us to designate critical habitat on the basis of the best scientific and commercial data available and to consider the economic and other relevant impacts of designating a particular area as critical habitat. We may exclude areas from critical habitat upon a determination that the benefits of such exclusions outweigh the benefits of specifying such areas as critical habitat. We cannot exclude areas from critical habitat when the exclusion will result in the extinction of the species. We will conduct the economic analysis for the proposed designation prior to a final determination.

3. Coordination: We will coordinate with Federal, State, local, and private landowners during the habitat assessment process.

Author: The primary author of this document is Celeste South (see ADDRESSES section).

Authority: The authority for this action is the Endangered Species Act (16 U.S.C. 1531-1544).

Dated: September 12, 2000.
Jamie Rappaport Clark,
Director, Fish and Wildlife Service.

[FR Doc. 00-24700 Filed 9-25-00; 8:45 am]

BILLING CODE 4310-55-P